DEPARTMENT OF HEALTH AND HUMAN SERVICES

National Institutes of Health

National Institute on Alcohol Abuse and Alcoholism; Amended Notice of Meeting

Notice is hereby given of a change in the meeting of the National Advisory Council on Alcohol Abuse and Alcoholism, June 04, 2014, 05:00 p.m. to June 05, 2014, 01:00 p.m. National Institutes of Health, 5635 Fishers Lane, Bethesda, MD, 20892 which was published in the Federal Register on March 14, 2014, 79 FR 14522.

The meeting notice is amended to change the start time of June 5, 2014 meeting. The meeting will start at 8:15 a.m. and is closed to the public. The meeting will open to the public at 9:00 a.m. The meeting is partially closed to the public.

Dated: May 2, 2014.
Melanie J. Gray,
Program Analyst, Office of Federal Advisory Committee Policy.

[FR Doc. 2014-10476 Filed 5-6-14; 8:45 am]

BILLING CODE 4140-01-P